DEPARTMENT OF VETERANS AFFAIRS

Scoping Notice for Preparation of a Programmatic Environmental Assessment for the State Veterans Homes Program

AGENCY: Department of Veterans Affairs.

ACTION: Notice.

SUMMARY: The Department of Veterans Affairs is preparing a programmatic environmental assessment (PEA) in accordance with the regulations implementing the procedural provisions of the National Environmental Policy Act (NEPA) of 1969 as implemented by the Council on Environmental Quality regulations, and VA's NEPA Implementing Regulations.

DATES: Comments must be received on or before February 12, 2024.

ADDRESSES: Comments must be submitted through www.regulations.gov. Except as noted in this section, comments received before the close of the comment period will be available at www.regulations.gov for public viewing, inspection, or copying, including any personally identifiable or confidential business information that is included in a comment. We post the comments received before the close of the comment period on www.regulations.gov as soon as possible after they have been received. VA will not post on regulations.gov public comments that make threats to individuals or institutions or suggest that the commenter will take actions to harm the individual. VA encourages individuals not to submit duplicative comments; however, we will post acceptable comments from multiple unique commenters even if the content is identical or nearly identical to other comments. Any public comment received after the comment period's closing date is considered late and will not be considered.

FOR FURTHER INFORMATION CONTACT: Mr. Jason Sturm, Environmental Engineer, Office of Construction & Facilities Management (003C2), Department of Veterans Affairs, 810 Vermont Avenue NW, Washington DC 20420, 224-628-1946 (this is not a toll-free number), Jason.Sturm@va.gov. Reference “State Veterans Homes PEA” in your correspondence.

SUPPLEMENTARY INFORMATION: The VA State Veterans Homes Construction Grant Program is a partnership between VA and the states by which VA provides full or partial grants to a state for construction, renovation, or repair of state-owned and operated nursing homes, domiciliaries, and/or adult day health care facilities. The PEA will evaluate VA's proposed Action to issue grants through the VA State Veterans Homes Construction Grant Program to its state partners for construction, renovation, or repair of State Veterans Homes facilities in all 50 States, the District of Columbia, the U.S. Virgin Islands, the Commonwealth of Puerto Rico, Guam, the Commonwealth of the Northern Mariana Islands, American Samoa, and Tribal Lands. The PEA aims to provide a streamlined NEPA compliance process for future VA State Veterans Homes Construction Grant Program grants involving construction, renovation, and repair projects that would result in less than significant environmental impacts.

This notice initiates the scoping process for the PEA and invites the public, government agencies, and other interested persons and organizations to provide comments on the scope of issues for analysis, input on potential alternatives, or information/analyses relevant to the proposed action.

Use of the PEA would decrease the time and cost associated with having to prepare stand-alone NEPA documentation for those future VA State Veterans Homes Construction Grant Program projects that would meet the conditions of the PEA. VA would complete additional NEPA compliance as required on projects outside the parameters of the PEA.

The grant program assists in providing eligible Veterans and their families high- quality, long-term domiciliary, nursing, adult day health, and hospital care services in a comfortable setting. The proposed action is needed to provide sufficient capacity to meet the increasing health care needs of eligible Veterans.

The PEA will evaluate the potential direct and indirect impacts on the human environment from the proposed action and alternatives. VA anticipates releasing the Draft PEA for a 30-day public review and comment period later in CY 2024. VA will notify stakeholders via email/mail, publish a notice of availability of the Draft PEA in the Federal Register, and solicit comments at that time. Once the Draft PEA is released it will be available for review via the VA website: www.cfm.va.gov/environmental/.

Signing Authority

Denis McDonough, Secretary of Veterans Affairs, approved and signed this document on January 4, 2024, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2024-00576 Filed 1-11-24; 8:45 am]

BILLING CODE 8320-01-P